SECURITIES AND EXCHANGE COMMISSION

Sunshine Act Meeting

Federal Register Citation of Previous Announcement: 70 FR 11720, March 9, 2005.

Status: Closed meeting.

Place: 450 Fifth Street, NW., Washington, DC.

Date and Time of Previously Announced Meeting: Monday, March 14, 2005, at 3:30 p.m.

Change in the Meeting: Cancellation of meeting.

The closed meeting scheduled for Monday, March 14, 2005, has been cancelled.

For further information please contact the Office of the Secretary at (202) 942-7070.

Dated: March 11, 2005.
Jonathan G. Katz,
Secretary.

[FR Doc. 05-5267 Filed 3-11-05; 4:16 pm]

BILLING CODE 8010-01-P